DEPARTMENT OF EDUCATION

Applications for New Awards; Disability Innovation Fund—Subminimum Wage to Competitive Integrated Employment Innovative Model Demonstration Project

AGENCY: Office of Special Education and Rehabilitative Services, Department of Education.

ACTION: Notice.

SUMMARY: The U.S. Department of Education (Department) is issuing a notice inviting applications for fiscal year (FY) 2022 for the Disability Innovation Fund—Subminimum Wage to Competitive Integrated Employment (SWTCIE) Innovative Model Demonstration Project, Assistance Listing Number 84.421D. The Department intends to fund multiple innovative model demonstration projects to assist individuals with disabilities currently employed in, or contemplating, subminimum wage employment (i.e., SWTCIE program participants) to engage with State vocational rehabilitation (VR) agencies so they may obtain competitive integrated employment (CIE). The Rehabilitation Services Administration (RSA) recognizes that models to obtain CIE are needed for students and youth with disabilities seeking subminimum wage employment and individuals with disabilities who are employed or contemplating employment at subminimum wage by entities holding special wage certificates (employers or entities holding 14(c) certificates) under section 14(c) of the Fair Labor Standards Act of 1938 (FLSA) (“under section 14(c) certificates”). This notice relates to the approved information collection under OMB control number 1820-0018.

DATES:

Applications Available: March 21, 2022.

Deadline for Transmittal of Applications: June 21, 2022.

Date of Pre-Application Meeting: The Office of Special Education and Rehabilitative Services (OSERS) will post a PowerPoint presentation that provides general information about RSA's discretionary grants and a PowerPoint presentation specifically about the SWTCIE Innovative Model Demonstration Project at https://ncrtm.ed.gov/RSAGrantInfo.aspx. In addition to posting the PowerPoint, OSERS will conduct a pre-application meeting specific to this competition via conference call to respond to questions. Information about the pre-application meeting will be available at https://ncrtm.ed.gov/RSAGrantInfo.aspx prior to the date of the call. OSERS invites you to send questions to 84.421D@ed.gov in advance of the pre-application meeting. The teleconference information, including a summary of the 84.421D pre-application meeting questions and answers, will be available at https://ncrtm.ed.gov/RSAGrantInfo.aspx within six business days after the pre-application meeting. Deadline for Intergovernmental Review: August 18, 2022.

ADDRESSES: For the addresses for obtaining and submitting an application, please refer to our Common Instructions for Applicants to Department of Education Discretionary Grant Programs, published in the Federal Register on December 27, 2021 (86 FR 73264) and available at www.federalregister.gov/d/2021-27979. Please note that these Common Instructions supersede the version published on February 13, 2019, and, in part, describe the transition from the requirement to register in SAM.gov a Data Universal Numbering System (DUNS) number to the implementation of the Unique Entity Identifier (UEI). More information on the phase-out of DUNS numbers is available at https://www2.ed.gov/about/offices/list/ofo/docs/unique-entity-identifier-transition-fact-sheet.pdf.

FOR FURTHER INFORMATION CONTACT: Cassandra P. Shoffler, U.S. Department of Education, 400 Maryland Avenue SW, Room 5065A, Potomac Center Plaza, Washington, DC 20202-2800. Telephone: (202) 245-7827. Email: 84.421D@ed.gov.

If you use a telecommunications device for the deaf (TDD) or a text telephone (TTY), call the Federal Relay Service (FRS), toll free, at 1-800-877-8339.

SUPPLEMENTARY INFORMATION:

I. Funding Opportunity Description

Purpose of Program: The purpose of the Disability Innovation Fund (DIF) Program, as provided by the Consolidated Appropriations Act, 2021 (Pub. L. 116-260), is to support innovative activities aimed at increasing CIE as defined in section 7 of the Rehabilitation Act of 1973 (Rehabilitation Act) (29 U.S.C. 705(5)), for youth and other individuals with disabilities.

The purpose of this competition is to increase the opportunity for SWTCIE program participants—students and youth with disabilities seeking subminimum wage employment and potential VR program applicants or VR-eligible individuals with disabilities who are employed or contemplating employment at subminimum wage—to obtain CIE, defined in section 7(5) of the Rehabilitation Act of 1973 (Rehabilitation Act) and in the Definitions section of this notice. To achieve this purpose, projects funded under this priority will create innovative models, for dissemination and replication, to: (1) Identify strategies for addressing challenges associated with access to CIE (e.g., transportation, support services); (2) provide integrated services that support CIE; (3) support integration into the community through CIE; (4) identify and coordinate wraparound services for any individual served by the project who obtains CIE; (5) develop evidence-based practices and share those practices with other entities holding 14(c) certificates, State VR agencies, local rehabilitation providers, State and local workforce agencies and regional and local employers; and (6) provide entities holding section 14(c) certificates with readily accessible transformative business models for adoption.

Priorities: This competition contains one absolute priority. We are establishing the absolute priority for the FY 2022 grant competition and any subsequent year in which we make awards from the list of unfunded applications from this competition, in accordance with section 437(d)(1) of the General Education Provisions Act (GEPA), 20 U.S.C. 1232(d)(1).

Absolute Priority: This priority is an absolute priority. Under 34 CFR 75.105(c)(3), we consider only applications that meet this priority.

This priority is:

Subminimum Wage to Competitive Integrated Employment (SWTCIE) Innovative Model Demonstration Project.

Background:

Since the establishment of the Federal minimum wage in 1938, a special minimum wage has existed for individuals with disabilities. This provision allows employers holding a section 14(c) certificate from the U.S. Department of Labor (DOL) to pay individuals with disabilities less than the Federal minimum wage that is generally mandated for all other workers. DOL, Wage and Hour Division, 14(c) certificate holder reports indicate that as of October 1, 2021, there were 531 entities that have pending 14(c) certificates, which do not yet provide subminimum employment, and 667 entities that hold 14(c) certificates with 39,840 individuals with disabilities employed under the 14(c) certificates earning a subminimum wage (U.S. Department of Labor, 2022).

As data have shown substantial disparity in the wages that these individuals receive, the need for policy and programming to help identify strategies to expand opportunities for individuals with disabilities employed at subminimum wage is critical. Recent Federal, State, and local legislation and policy development have focused on maximizing opportunities for individuals with disabilities to earn competitive wages in non-segregated settings, thereby enhancing the social and economic inclusion and empowerment of individuals with disabilities. In some cases, State legislation and policies emphasize eliminating subminimum wage or terminating the use of subminimum wage for individuals with disabilities over a period of time. Changes in expectations about community integration and employment for individuals with disabilities render subminimum wage employment an outdated model.

Several States, including Alaska, Maine, Maryland, New Hampshire, Oregon, Washington, Hawaii, Colorado, California, Delaware, Rhode Island, and Vermont, have passed or are in the process of implementing legislation to abolish the payment of subminimum wages to individuals with disabilities. In addition, some cities, such as Seattle, Washington; Reno, Nevada; Chicago, Illinois; and Denver, Colorado, have such bans in place.

While passing legislation and enacting policies to eliminate subminimum wage employment has been effective at the State and local level, there is a need for an innovative focus on eliminating subminimum wage employment that also expands opportunities for individuals with disabilities to obtain CIE. Projects that utilize innovative approaches, such as those identified within this notice, have the potential to prevent the payment of a subminimum wage to and improve the employment outcomes of individuals with disabilities and build the body of evidence towards achieving this policy goal.

The Rehabilitation Act, as amended by title IV of the Workforce Innovation and Opportunity Act (WIOA), defines CIE in general as full-time or part-time work: (1) In which the individual with a disability is paid at or above the Federal minimum wage; (2) at a location where the individual with a disability interacts with individuals without disabilities to the same extent that individuals without disabilities in comparable positions interact with others who are not disabled; and (3) that presents opportunities for advancement that are similar to those provided to individuals without disabilities. In this notice, the Department uses the definition of CIE from 34 CFR 361.5(c)(9) established for purposes of the VR program, which defines CIE as work that is, among other things, performed in a location: (1) That is typically found in the community; and (2) in which the individual with a disability interacts for the purpose of performing the duties of the position with other employees within the particular work unit and the entire work site, and, as appropriate to the work performed, other persons (e.g., customers and vendors), who are not individuals with disabilities (not including supervisory personnel or individuals who are providing services to such employee) to the same extent that employees who are not individuals with disabilities and who are in comparable positions interact with these persons. See the Definitions section of this notice.

The purpose of the VR program is to assist individuals with disabilities who choose to seek CIE, including supported employment ¹ and customized employment, which constitute “employment outcomes” under the VR program as defined in section 7(11) of the Rehabilitation Act (29 U.S.C. 705(11) and 34 CFR 361.5(c)(15)). An individual with a disability who chooses to pursue non-competitive and/or non-integrated employment is not eligible for services under the VR program because the individual would not be choosing to achieve an “employment outcome.” To the extent an individual with a disability, or their representative as appropriate, chooses to pursue work that is outside the scope of the VR program, VR agency personnel play a critical role in making the proper referrals to other community resources, as required under 34 CFR 361.37(b).

¹ “Supported employment,” as defined at section 7(38) of the Rehabilitation Act (29 U.S.C. 705(38)) and 34 CFR 361.5(c)(53), means competitive integrated employment, including customized employment, or employment in an integrated setting in which an individual with a most significant disability is working on a short-term basis toward competitive integrated employment. As such, “supported employment” constitutes an “employment outcome” under the VR program, as that term is defined at section 7(11) of the Rehabilitation Act (29 U.S.C. 705(11)) and 34 CFR 361.5(c)(15).

The VR program expands opportunities for individuals with disabilities to obtain high-quality CIE that leads to economic security and is a key resource in furthering the full equality and integration of individuals with disabilities in American society by examining potential employment opportunities, and by training and preparing individuals with disabilities for those opportunities that lead to an employment outcome.

In furthering its mission to assist individuals with disabilities to obtain CIE, the VR program works with employers of all types, including those offering non-traditional, flexible, and freelance opportunities. The program assists and encourages employers to fully include individuals with disabilities in their workforce by creating employment opportunities that meet all criteria in the definition of CIE, including the criterion for an integrated employment location.

To be considered CIE for purposes of both DIF and the VR program, a job position must satisfy all three criteria related to wages/benefits, integration, and opportunities for advancement (section 7(5) of the Rehabilitation Act (29 U.S.C. 705(5)), 34 CFR 361.5(c)(9), and the Definitions section of this notice). Please refer to RSA-FAQ 22-02, the Frequently Asked Questions (FAQs) pertaining to Criterion for an Integrated Employment Location in the Definition of “Competitive Integrated Employment” and Participant Choice that was issued by the Rehabilitation Services Administration (2021).² Although the FAQs pertain specifically to CIE and the VR program, they provide critical information, including clarification on the criterion for an integrated employment location in the definition, that would be applicable to the definition for purposes of the DIF program.

² See References for link to RSA-FAQ 22-02.

Priority:

The purpose of this priority is to fund model demonstration projects designed to develop, implement, refine, evaluate, and disseminate, for easy adoption, new or substantially improved model strategies or programs to transition SWTCIE program participants to CIE in any one of six topic areas.

Topic Areas:

Within this absolute priority, the Secretary intends to support innovative model demonstration projects under the following topic areas: (1) Essential Workers; (2) Green Job Workers; (3) Home and Community-Based Service Workers; (4) Arts; (5) Transportation Industry and related Industry Workers; and (6) Field Initiated. If an applicant intends to address multiple topic areas, the applicant must combine the topic areas in one application and submit it under topic area 6, Field Initiated. For example, an applicant could apply under topic area 6 with a proposed project that combines topic area 1 with any of topic areas 2-5. Multiple applications from a single applicant will not be accepted.

Note: The numbering of the topic areas does not reflect an established hierarchy or preference among the topic areas.

Topic Area 1: Essential Workers.

Essential workers are needed nationwide as the economy responds to the novel coronavirus 2019 (COVID-19). The U.S. Department of Homeland Security identified essential workers as those individuals who conduct a range of operations and services that are typically essential to continue critical infrastructure operations (Hultin, 2021). The U.S. Department of Homeland Security's Cybersecurity and Infrastructure Security Agency (CISA) created guidance, and developed a sector-specific list, to assist in the identification of essential workers (2021).

Potential SWTCIE program participants may already be classified as essential workers but work in non-integrated settings or enclaves. These individuals may have the skills, abilities, and interest in transferring to job positions as essential workers in CIE.

A project in this area will identify and implement innovative strategies to assist SWTCIE program participants to secure CIE as essential workers.

Topic Area 2—Green Job Workers.

Workers will be needed for green jobs to help the United States reach its goal of no longer generating greenhouse gas pollution by 2035 (U.S. Department of Labor, 2021). The percentage of total employment associated with green goods and services has increased in the United States over the years, presenting employment opportunities in related emerging fields (U.S. Bureau of Labor Statistics, 2013). Innovative inclusion practices would provide green job opportunities for individuals with disabilities, which in turn would also improve the outlook in this growing sector.

Green jobs may include solar panel installation and maintenance; energy efficient HVAC installation; removal of excess undergrowth from forests at risk of forest fires; operation of businesses such as electric vehicle businesses, wind and water electricity businesses, and hydroponic gardening facilities; and many other emerging areas that may assist in combating climate change.

A project in this area will identify and implement innovative strategies to assist SWTCIE program participants to secure CIE as green job workers.

Topic Area 3—Home and Community-Based Service Workers.

With the aging of the Nation's population and the need for independent living for people with disabilities leading to increased demand for Home and Community Based services (HCBS), the United States faces an impending crisis in the supply of direct support workers. This increased demand for HCBS opens the door to various employment opportunities. Some individuals with significant disabilities and older adults who need personal services may use or employ individuals with disabilities to provide the needed personal services. This arrangement could provide a mutually beneficial relationship between the individual with a disability needing services, and the individual with a disability providing the services.

A project in this area will identify and implement innovative strategies to assist SWTCIE program participants to secure CIE as home and community-based service workers for individuals with disabilities, the aging population, or both.

Topic Area 4—Arts.

The National Endowment for the Arts, New Report Released on the Economic Impact of the Arts and Cultural Sector (2021), indicated that the arts have been significantly and negatively impacted by COVID-19. As a major employment sector, the arts are an essential part of building back our Nation's culture and our ability to enjoy being with others in public spaces. To rebuild the arts, individuals with disabilities should have CIE opportunities within every arts venue and activity. The arts and culture industry shapes culture and cultural expectations. Individuals with disabilities and their advocates have historically promoted representation of individuals with disabilities within the arts and culture industry.

The arts employ individuals in many settings and positions, such as performing artists (e.g., actors, musicians, singers, dancers), visual artists (e.g., painters, sculptors, jewelers, woodworkers), set designers, construction workers, costume designers, lighting crew, ticket takers, cleaners, librarians, advertisers, translators, and managers and staff at all types of arts venues, and many other jobs. These positions are carried out in communities of all sizes across the Nation.

A project in this area will identify and implement innovative strategies to assist SWTCIE program participants to secure CIE in the arts, thereby advancing meaningful access to and inclusion in one or more of these three primary areas pertaining to the arts: (1) Education and Careers, (2) Community Health/Wellness, and (3) Cultural Spaces.

(1) Education and Careers: Build a bridge to employment opportunities in the arts that include education and training, including postsecondary education opportunities, for SWTCIE program participants in all genres of arts-based careers. This includes reaching students in arts high schools and in arts programs, reaching students who do not have access to arts curricula, and facilitating exposure to work-based learning experiences in the arts.

(2) Community Health/Wellness: Foster inclusion in community life and promote resilience and social engagement through CIE in the arts for SWTCIE program participants.

(3) Cultural Spaces: Create access to cultural spaces that provide STWCIE program participants with CIE opportunities in the arts (for example, in theaters and performing arts venues; art, history, and children's museums; outdoor exhibit spaces such as parks, zoos, arboretums, aquariums, and recreational spaces), thereby leading to increased engagement between individuals with and without disabilities, more diversity within the arts, and empowerment for STWCIE program participants in the arts.

Topic Area 5—Transportation Industry and Related Industry Workers.

According to the Bureau of Transportation Statistics (2022), “transportation industry” refers to the for-hire transportation and warehousing sector, including but not limited to air, rail, water, and truck transportation. “Transportation-related industries” refers to industries outside the for-hire transportation and warehousing sector, for example motor vehicle parts manufacturing and positions within Federal and State Departments of Transportation.

A project in this area will identify and implement innovative strategies to assist SWTCIE program participants to secure CIE as a worker within the transportation industry or transportation-related industries. A project in this topic area may align with the transportation aspects of the Infrastructure Investment and Jobs Act (2021).

Topic Area 6—Field Initiated.

Field initiated projects will identify and implement innovative strategies that assist SWTCIE program participants to secure CIE. A field initiated project may (1) address innovative topic areas not otherwise included in this notice, or (2) combine two or more topic areas described in this notice into one application.

Requirements:

The following requirements are established for the FY 2022 grant competition and any subsequent year in which we make awards from the list of unfunded applications from this competition, in accordance with section 437(d)(1) of GEPA.

Program and Project Application Requirements:

Under this priority, the model demonstration project must, at a minimum, meet the following program requirements. Applicants must describe, in a narrative section of the application, how the proposed project will meet these requirements.

(a) Develop, pilot, refine, and implement a collaborative model, representative of the partnerships with key staff in State VR agencies and partner programs; employers; local educational agencies (LEAs); State educational agencies (SEAs); community rehabilitation providers (CRPs); organizations and associations of, or representing, individuals with disabilities, students and youth with disabilities, parents, family members, guardians, and advocates, that can be used by State VR agencies and local VR providers to assist SWTCIE program participants.

(1) Develop the project.

(i) Develop a collaborative model to assist SWTCIE program participants during the first year of the project.

(ii) Identify and collaborate with partners and stakeholders that have experience serving populations that are diverse with respect to, for example, socioeconomic status, race, ethnicity, culture, language, disability status, and gender.

(iii) Establish partnerships with State VR agencies; individuals with disabilities; community-based services and CRPs; appropriate employers, particularly employers representing the selected topic area(s); and other agencies and entities that are critical to the development and implementation of this project. These agencies and entities may include SEAs, LEAs, institutions of higher education, 14(c) certificate holders, workforce providers, support service providers, and on-the-job and customized training providers.

(iv) Develop a memorandum of understanding (MOU) with each partner that describes the specific roles and responsibilities. The MOU(s) with the described partners must be submitted to the Department prior to piloting the proposed project and revised, as necessary, when implementing the project.

(v) Serve diverse geographic regions, such as urban, suburban, rural, and Tribal communities, as applicable.

(vi) Identify and collaborate with a workgroup or committee that consists of the partnership with key staff in State VR agencies and partner programs; employers; LEAs; SEAs; CRPs; organizations and associations of, or representing, individuals with disabilities, students and youth with disabilities, parents, family members, guardians, advocates, other Department-funded projects, and authorized representatives as directed by RSA. The purpose of the workgroup or committee is to advise the State VR agency on project development and implementation, and to identify and operationalize partner activities that may contribute to the success of SWTCIE program participants.

(vii) Train SWTCIE program participants and assist SWTCIE program participants in obtaining required credentials related to the identified topic areas, if applicable.

(viii) Identify and describe the services and supports that will be offered to support SWTCIE program participants in promoting, accessing, achieving, and maintaining CIE in the proposed topic area.

(2) Pilot the project.

(i) Pilot the project during the second year of the project period.

(ii) The pilot must be aimed at assessing, throughout the year, the crucial components of the full-scale project, including data collection and evaluation components, to determine whether components will be conducted as planned, or need to be altered.

(3) Refine the project.

(i) Include a process of continuous improvement to ensure that project activities are reviewed against the project's goals and objectives and refined throughout years two, three, four, and five.

(ii) Refine the project through a process for securing feedback, through various methods (e.g., in-person, phone, virtual) from SWTCIE program participants, partners, and stakeholders, to ensure continuous improvement and refinement of the project throughout years two, three, four, and five.

(4) Implement the project. The implementation of the project must include collection of baseline data prior to the start of the project activities (year 1), the project pilot (year 2), refinement (years 2-5), and data collection and assessment of feedback on the plan and its impact (e.g., strengths and challenges) on transitioning SWTCIE program participants to CIE (years 2-5).

(b) Develop a workplan, to be included with the application, that addresses the following:

(1) Collection of baseline data prior to the start of project activities (year 1), design (year 1), pilot (year 2), refinement and implementation (years 2-5), data collection (years 2-5), stakeholder feedback (years 2-5), and evaluation on the project and its impact (e.g., strengths and challenges) (years 2-5) on assisting SWTCIE program participants;

(2) Identification of supports (e.g., transportation, financial planning) for SWTCIE program participants including the rationale for providing the supports (e.g., if a support has an evidence base of improving CIE) and how the specific supports for each SWTCIE program participant will be determined (unless all participants receive the same supports);

(3) In consultation with the employee and their employer, identification of efficiencies within the employment setting that will be implemented to reduce burden, such as the use of modern information and communications technology for oversight and consultation, as an alternative to in-person meetings, as appropriate, and simplification of time-intensive process requirements;

(4) Identification of how SWTCIE program participants will be provided information and support services to assist in exercising informed choice regarding CIE options, including but not limited to participation in on-the-job training, job shadowing, and internships, to ensure that opportunities are identified based on SWTCIE program participants' choices and experiences toward achieving CIE outcomes;

(5) Identification and implementation of flexible customized employment strategies, such as flexible and alternative workplace solutions, for SWTCIE program participants, as appropriate;

(6) Development and provision of outreach and training to SWTCIE program participants and, as appropriate, their parents or guardians to address social inclusion, supported decision-making and alternatives to guardianship, fair wages and hours, skills development, safe and healthy workplaces, and supports necessary for success (e.g., transportation, financial planning);

(7) Creation of a toolkit that will contribute to the assessment of SWTCIE program participants' ability to manage major life skills areas, and which will include a self-assessment component; resources (e.g., agencies and organizations that assist job seekers, job boards, training programs); and other information that can guide users to replicate practices, both promising and emerging; and

(8) Creation and dissemination of project materials in a format that allows States to easily replicate effective innovative strategies. The materials must include information about the project throughout the life of the project (years 2-5), including, but not limited to, products created, reports, effective strategies, implementation challenges and strategies for avoiding or overcoming these challenges, evaluation findings, and other relevant information as directed by RSA.

(c) Develop and conduct an evaluation of the project's performance that documents the relationship between participants' engagement with or use of specific practices and strategies implemented by the project and key outcomes. Grantees must dedicate sufficient funds throughout the project period to cover the costs of developing, refining, and implementing the evaluation plan, as well as the costs associated with collaborating throughout the period of performance with an independent evaluator identified by RSA.

In the narrative section of the application under “Quality of the project evaluation,” applicants must include an evaluation plan for the project. The evaluation plan must—

(1) Identify formative and summative evaluation questions, including important process and outcome evaluation questions that align to the required project logic model.

(2) Describe how progress in and fidelity of implementation, as well as project outcomes, will be measured to answer the evaluation questions. Specify the measures and associated instruments or sources for data appropriate to the evaluation questions. Include information regarding reliability and validity of measures where appropriate.

(3) Describe strategies for analyzing data and how data collected as part of this project will be used to inform and refine the proposed logic model and evaluation plan, including subsequent data collection.

(4) Provide a timeline for conducting the evaluation and include staff assignments for completing the plan. The timeline must indicate that data will be available bi-annually for the annual performance report (October 1-March 31) and end of year performance report (October 1-September 30).

(5) Collect data regarding SWTCIE program participants, including but not limited to, demographics and regional information.

(6) Collect baseline data prior to the start of the project activities and, at a minimum, analyze the following data:

(i) Number of entities holding or with pending applications for a section 14(c) certificate in the project's State;

(ii) For SWTCIE program participants working for an entity holding a section 14(c) certificate in the project's State at VR application:

(A) Number that are employed at subminimum wage;

(B) Number that are employed in CIE;

(C) Number that are employed in more than one job, at least one for subminimum wage and another in CIE;

(D) Number of hours worked per week and hourly wage at subminimum wage;

(E) Number of hours worked per week and hourly wage in CIE;

(F) Number of hours worked per week and hourly wage in a combination of subminimum wage and CIE;

(iii) For SWTCIE program participants who are youths, including students, with disabilities:

(A) Number who are contemplating subminimum wage employment at VR application;

(B) Hourly wage at VR application;

(C) Number who are diverted from subminimum wage employment to CIE by VR case closure;

(iv) For SWTCIE program participants at VR case closure, with disaggregated data for youth, including students, with disabilities:

(A) Number that are employed at subminimum wage;

(B) Number that are employed in CIE;

(C) Number that are employed in more than one job, at least one for subminimum wage and another in CIE;

(D) Number that exit subminimum wage employment but do not obtain CIE;

(E) Number of hours worked per week and hourly wage at subminimum wage;

(F) Number of hours worked per week and hourly wage in CIE;

(G) Number of hours worked per week and hourly wage in a combination of subminimum wage and CIE;

(H) Data on the effectiveness of specific VR services provided to SWTCIE program participants that transition to CIE;

(I) VR services that were effective for SWTCIE program participants to transition from subminimum wage employment to CIE;

(J) Strategies that were effective for SWTCIE program participants to exit subminimum wage employment and obtain CIE;

(K) Strategies that were effective for SWTCIE program participants to transition from subminimum wage employment to a combination of subminimum wage employment and CIE;

(L) Strategies that were effective in transitioning from a combination of subminimum wage employment and CIE to CIE only;

(M) Strategies that helped to divert from considering subminimum wage employment; and

(N) Evaluate the relationship between SWTCIE program participants' engagement with or use of specific practices and strategies implemented by the project and key outcomes.

(7) Estimate the impact of the project on a relevant outcome.

(8) Make broadly available the results of any evaluation(s) conducted of funded activities, digitally and free of charge, through formal (e.g., peer reviewed journals) or informal (e.g., newsletters) mechanisms.

(9) Ensure that data from the grantee's evaluation are made available to third-party researchers consistent with applicable privacy requirements.

(10) Cooperate on an ongoing basis with any technical assistance provided by the Department or its contractor(s) and comply with the requirements of any evaluation of the program conducted by the Department.

General Application Requirements:

Applicants must identify the specific topic area (1, 2, 3, 4, 5, or 6) under which they are applying as part of the competition title on the application cover sheet (SF form 424, line 4).

Specific Application Requirements:

In addition to meeting the absolute priority, the program and project application requirements, and the general application requirements, all applicants must include the following in their applications:

(a) A detailed review of the literature that supports the potential effectiveness of the proposed project, its components, and processes to assist SWTCIE program participants to transition to CIE.

(b) A description of the defined geographic area or areas to be served by the project.

(c) A logic model that communicates how the demonstration project will achieve its outcomes and provides a framework for project evaluation. The logic model must—

(1) Describe, at a minimum, the goals, activities, outputs, and intended outcomes of the proposed model demonstration project; and

(2) Demonstrate how the proposed project components are intended to affect the project outcomes. Applicants must specifically note the proposed project activities that are supported by evidence that demonstrates a rationale and are depicted in the logic model.

(d) A description of the applicant's workplan, methods, and criteria for implementing the project.

(e) A cohesive, articulated model of partnership and coordination among the participating VR agencies, SEAs, LEAs, non-profit organizations, employers, and SWTCIE program participants.

(f) A description of how the applicant developed the project in coordination with the partnerships between key staff in State VR agencies and partner programs; employers; LEAs; SEAs; CRPs; organizations and associations of, or representing, individuals with disabilities, students and youth with disabilities, parents, family members, guardians, and advocates to ensure the proposed project reflects the needs of SWTCIE program participants.

(g) A description of the applicant's plan, methods, and criteria for implementing the project, including a cohesive, articulated model of coordination and collaboration among the identified agencies and organizations.

(h) How the proposed project will—

(1) Provide project information to potential SWTCIE program participants and stakeholders, including but not limited to, current and future employers, LEAs, and local and State VR agency representatives;

(2) Identify local workforce needs that are aligned with the topic area;

(3) Involve appropriate partners (e.g., employers, support providers, LEAs) in the project design;

(4) Provide technical assistance or other resources (e.g., trainings) to partners, participants, project staff, and others as appropriate;

(5) Collaborate with participating agencies and organizations; and

(6) Develop strategies and conduct outreach activities to identify potential SWTCIE program participants.

(i) Evidence, based on a needs assessment, of—

(1) The greatest barriers to obtaining CIE for SWTCIE program participants in the topic area addressed by the project;

(2) Opportunities in the local community to support SWTCIE program participants employed at subminimum wage to obtain CIE; and

(3) Other CIE practices, service providers, and funding sources.

(j) A project design and management plan that—

(1) Addresses one or more barriers to, or opportunities for, CIE in the topic area, as identified in the local needs assessment or other data analysis; and

(2) Uses a community-based strategy (or strategies) and measurable objectives for that strategy (or strategies) that can be used to measure progress toward the goal.

(k) Documentation, such as letters of support that would be updated to MOUs prior to piloting the proposed project, that identifies the responsibilities that identifies the responsibilities of each partner in the project, including subminimum wage employers who will collaborate with the project efforts.

(l) Evidence that the applicant or one of its partners has demonstrated the capacity to improve outcomes that are relevant to the topic area through experience with programs funded through other sources.

(m) A description of who will be involved in developing and implementing the proposed activities.

(n) Information demonstrating that the proposed project is based on research, where applicable, or an existing program that has been modified to be appropriate for SWTCIE program participants.

(o) A description of whether the applicant's proposed project activities will be sustained beyond the grant performance period, and if so, how the applicant proposes to do so.

(p) A description of how the proposed project will conduct dissemination and coordination activities to ensure accessibility to a broad range of stakeholders interested in obtaining, adapting, or replicating best practices, or models developed and implemented by the project. To address this requirement, the applicant must describe how the proposed project will broadly disseminate project findings and knowledge gained, successful strategies demonstrated under the topic area to individuals with disabilities, parents, family members, guardians, advocates, and authorized representatives, other Federal agencies, and other State and local VR agencies.

Note: All products produced by the grantees must meet government- and industry-recognized standards for accessibility, including section 508 of the Rehabilitation Act.

(q) A description of its approach for conducting coordination and collaboration activities. To meet this requirement, the applicant must describe how it will—

(1) Establish a community of practice in the topic area that focuses on the project's activities and acts as a vehicle for communication and exchange of information among SWTCIE program participants and other relevant stakeholders;

(2) Maintain ongoing communication with the RSA project officer and other RSA staff as required; and

(3) Communicate, collaborate, and coordinate, as appropriate, with key staff in State VR agencies and partner programs; employers; LEAs; SEAs; CRPs; organizations and associations of, or representing, individuals with disabilities, students and youth with disabilities, parents, family members, guardians, advocates, other Department-funded projects, and authorized representatives as directed by RSA.

(r) An assurance that the grantee will participate in ongoing discussions, facilitated by the Department, with the other projects funded under this competition concerning the development of a data coordination plan that is common to all funded projects, including—

(1) Evaluation questions;

(2) Data collection instruments;

(3) Synthesis and analysis of the data;

(4) Acceptable variations across projects for the measurement of implementation fidelity, model acceptability, and data reliability; and

(5) Collaborative efforts to disseminate information about the models. Projects must share data with the Department in the process of implementing the data coordination plan, such as the organization of data, maintaining data integrity and security, and sorting and organizing databases.

Note: In addition to common data and instrumentation, applicants may propose in the application to collect and analyze data that are not commonly collected by all projects, but that support the refinement and implementation of their model demonstration project.

(s) A description of the detailed documentation process that the applicant proposes to implement to permit model replication should the model be successful.

References

Guidance on the essential critical infrastructure workforce. Cybersecurity and Infrastructure Security Agency CISA. (n.d.). Retrieved from https://www.cisa.gov/publication/guidance-essential-critical-infrastructure-workforce

Hado, E., & Flinn, B. (2021, November). Home and community-based services for older adults. AARP. Retrieved from https://www.aarp.org/ppi/info-2021/home-and-community-based-services-for-older-adults.html

Infrastructure Investment and Jobs Act. Public Law 117-58, 135 Stat. 429 (2021). https://www.govinfo.gov/app/details/PLAW-117publ58#:~:text=An%20act%20to%20authorize%20funds,programs%2C%20and%20for%20other%20purposes.

New report released on the Economic Impact of the Arts and Cultural Sector. New Report Released on the Economic Impact of the Arts and Cultural Sector. (2021, March 30). Retrieved from https://www.arts.gov/about/news/2021/new-report-released-economic-impact-arts-and-cultural-sector

RSA Issues FAQs related to Criterion for an Integrated Employment Location in the Definition of “Competitive Integrated Employment” and Participant Choice | Rehabilitation Services Administration. (2021, October 29). Retrieved from https://rsa.ed.gov/whats-new/rsa-issues-faqs-related-criterion-integrated-employment-location-definition-competitive

Suzanne Hultin, L.K. (2021, January 11). Covid-19: Essential Workers in the States. Retrieved from https://www.ncsl.org/research/labor-and-employment/covid-19-essential-workers-in-the-states.aspx

U.S. Department of Transportation, Bureau of Transportation Statistics. (2022). Economic Trends: Transportation Employment—Industry. Bureau of Transportation Statistics. Retrieved from https://data.bts.gov/stories/s/Transportation-Economic-Trends-Transportation-Empl/caxh-t8jd/

U.S. Bureau of Labor Statistics. (2013, March 19). Green Goods and services news release. U.S. Bureau of Labor Statistics. Retrieved from https://www.bls.gov/news.release/ggqcew.htm

U.S. Department of Labor. 14(C) certificate holders. (2022, January 1). Retrieved from https://www.dol.gov/agencies/whd/workers-with-disabilities/section-14c/certificate-holders

U.S. Department of State and U.S. Executive Office of the President. The long-term strategy of the United States. (2021 November). Retrieved from https://www.whitehouse.gov/wp-content/uploads/2021/10/US-Long-Term-Strategy.pdf

Waiver of Proposed Rulemaking: Under the Administrative Procedure Act (5 U.S.C. 553), the Department generally offers interested parties the opportunity to comment on proposed priorities, selection criteria, definitions, and requirements. Section 437(d)(1) of GEPA, however, allows the Secretary to exempt from rulemaking requirements regulations governing the first grant competition under a new or substantially revised program authority. This is the first grant competition for this program under the authority given in the Consolidated Appropriations Act, 2021, and, therefore, qualifies for this exemption. In order to ensure timely grant awards, the Secretary has decided to forego public comment on the priority, requirements, definitions, and selection criteria under section 437(d)(1) of GEPA. The priority, requirements, definitions, and selection criteria will apply to the FY 2022 grant competition and any subsequent year in which we make awards from the list of unfunded applications for this competition.

Definitions:

For the FY 2022 grant competition and any subsequent year in which we make awards from the list of unfunded applications from this competition, in accordance with section 437(d)(1) of GEPA, we establish definitions of “community of practice,” “competitive integrated employment,” “contemplating subminimum wage employment,” “essential workers,” “green jobs,” “home and community-based service workers,” “independent evaluation,” “individual with a disability,” “subminimum wage,” “SWTCIE program participants,” “transportation industries,” “transportation-related industries,” and “youth with a disability.” The remaining definitions are from 34 CFR 77.1. The authority for each definition is noted following the text of the definition.

“Community of practice” means a group of people who work together to solve a persistent problem or to improve practice in an area that is important to them and who deepen their knowledge and expertise by interacting on an ongoing basis. Communities of practice exist in many forms, some large in scale that deal with complex problems, others small in scale that focus on a problem at a very specific level. See http://www.wintac.org/cop for examples of communities of practice established through other RSA grants. (Section 437(d)(1) of GEPA.)

“Competitive integrated employment” means work that—

(i) Is performed on a full-time or part-time basis (including self-employment) and for which an individual is compensated at a rate that—

(A) Is not less than the higher of the rate specified in section 6(a)(1) of the Fair Labor Standards Act of 1938 (29 U.S.C. 206(a)(1)) or the rate required under the applicable State or local minimum wage law for the place of employment;

(B) Is not less than the customary rate paid by the employer for the same or similar work performed by other employees who are not individuals with disabilities and who are similarly situated in similar occupations by the same employer and who have similar training, experience, and skills; and

(C) In the case of an individual who is self-employed, yields an income that is comparable to the income received by other individuals who are not individuals with disabilities and who are self-employed in similar occupations or on similar tasks and who have similar training, experience, and skills; and

(D) Is eligible for the level of benefits provided to other employees; and

(ii) Is at a location—

(A) Typically found in the community; and

(B) Where the employee with a disability interacts for the purpose of performing the duties of the position with other employees within the particular work unit and the entire work site, and, as appropriate to the work performed, other persons (e.g., customers and vendors), who are not individuals with disabilities (not including supervisory personnel or individuals who are providing services to such employee) to the same extent that employees who are not individuals with disabilities and who are in comparable positions interact with these persons; and

(iii) Presents, as appropriate, opportunities for advancement that are similar to those for other employees who are not individuals with disabilities and who have similar positions. (Section 437(d)(1) of GEPA.)

“Contemplating subminimum wage employment” means that the SWTCIE project participant has in mind, as a probable though not certain intention, to enter subminimum wage employment. (Section 437(d)(1) of GEPA.)

“Demonstrates a rationale” means a key project component included in the project's logic model is informed by research or evaluation findings that suggest the project component is likely to improve relevant outcomes. (34 CFR 77.1.)

“Essential workers” ³ are those who conduct a range of operations and services that are typically essential to continue critical infrastructure operations. (Section 437(d)(1) of GEPA.)

³ U.S. Department of Homeland Security Cybersecurity; Infrastructure Security Agency. (2020, March 28). CISA guidance on essential critical infrastructure workers. Advisory Memorandum on Identification of Essential Critical Infrastructure Workers During COVID-19 Response. Retrieved December 2, 2021, from https://www.cisa.gov/sites/default/files/publications/Version_3.0_CISA_Guidance_on_Essential_Critical_Infrastructure_Workers_1.pdf.

“Green jobs” ⁴ are jobs in businesses that produce goods or provide services that benefit the environment or conserve natural resources or are jobs in which workers' duties involve making their establishment's production processes more environmentally friendly or use fewer natural resources. (Section 437(d)(1) of GEPA.)

⁴ U.S. Bureau of Labor Statistics. (n.d.). Overview of the BLS green jobs initiative. U.S. Bureau of Labor Statistics. Retrieved November 16, 2021, from https://www.bls.gov/green/home.htm.

“Home and community-based service (HCBS) workers” ⁵ are those who provide a type of person-centered care delivered in the home and community. A variety of health and human services can be provided. HCBS workers address the needs of people with functional limitations who need assistance with everyday activities, like getting dressed or bathing. HCBS workers often enable people to stay in their homes, rather than moving to a facility for care. (Section 437(d)(1) of GEPA.)

⁵ Medicare and Medicaid Services, Home- and Community-Based Services, https://www.cms.gov/Outreach-and-Education/American-Indian-Alaska-Native/AIAN/LTSS-TA-Center/info/hcbs.

“Independent evaluation” means an evaluation that is designed and carried out independent of, and external to, the grantee but in coordination with any employees of the grantee who develop a process, product, strategy, or practice that is currently being implemented as part of the grant's activities. (Section 437(d)(1) of GEPA.)

“Individual with a disability” means an individual who—

(a) Has a physical or mental impairment that for such individual constitutes or results in a substantial impediment to employment; and

(b) Can benefit in terms of an employment outcome from vocational rehabilitation services provided pursuant to Title I, III, or VI of the Rehabilitation Act. (Section 437(d)(1) of GEPA.)

“Logic model” (also referred to as a theory of action) means a framework that identifies key project components of the proposed project (i.e., the active “ingredients” that are hypothesized to be critical to achieving the relevant outcomes) and describes the theoretical and operational relationships among the key project components and relevant outcomes. (34 CFR 77.1.)

“Project component” means an activity, strategy, intervention, process, product, practice, or policy included in a project. Evidence may pertain to an individual project component or to a combination of project components (e.g., training teachers on instructional practices for English learners and follow-on coaching for these teachers). (34 CFR 77.1.)

“Relevant outcome” means the student outcome(s) or other outcome(s) the key project component is designed to improve, consistent with the specific goals of the program. (34 CFR 77.1.)

“Subminimum wage” means an amount less than the Federal minimum wage, as determined by the U.S. Department of Labor. (Section 437(d)(1) of GEPA.)

“SWTCIE program participants” means individuals with disabilities, including students and youth with disabilities, working at subminimum wage or contemplating subminimum wage employment with an entity holding a section 14(c) certificate, regardless of whether they have applied, or been determined eligible, for the VR program, or have a signed Individualized Plan for Employment. These participants must be willing to pursue opportunities in CIE. (Section 437(d)(1) of GEPA.)

“Transportation industries” ⁶ means industries related to the for-hire transportation and warehousing sector, such as air, rail, water, and truck transportation. (Section 437(d)(1) of GEPA.)

⁶ Transportation Economic Trends: Transportation Employment—Industry (www.bts.gov).

“Transportation-related industries” ⁷ means industries outside the for-hire transportation and warehousing sector, such as motor vehicle parts manufacturing and Federal and State Departments of Transportation. (Section 437(d)(1) of GEPA.)

⁷ Transportation Economic Trends: Transportation Employment—Industry (www.bts.gov).

“Youth(s) with a disability” means an individual(s) with a disability who is not—

(1) Younger than 14 years of age; and

(2) Older than 24 years of age.

(Section 437(d)(1) of GEPA.)

Program Authority: Consolidated Appropriations Act, 2021 (Pub. L. 116-260), 134 Stat. 1602.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards (Uniform Guidance) in 2 CFR part 200, as adopted and amended as regulations of the Department in 2 CFR part 3474.

II. Award Information

Type of Award: Discretionary grants negotiated as cooperative agreements.

Estimated Available Funds: $167,327,358.

Contingent upon the availability of funds and the quality of applications, we may make additional awards in FY 2023 from the list of unfunded applications from this competition.

Estimated Range of Awards: $3,548,387 to $13,943,946 (frontloaded for the 60-month project period).

Estimated Average Size: $8,971,973.

Maximum Award: We will not make an award exceeding $13,943,946 for a single budget period of 60 months.

Estimated Number of Awards: 12 (if all awards are made at the maximum award amount) to 18 (if all awards are made at the estimated average size).

Note: The Department is not bound by any estimates in this notice.

Project Period: Up to 60 months.

Note: The Final Performance Report must be completed and submitted by the end of the project period, September 30, 2027. Therefore, the proposed project must complete core project activities to allow sufficient time for the evaluation and final performance report to be completed and submitted by the end of the project period on September 30, 2027.

Note: Applicants under this competition are required to provide detailed budget information for the total grant period, including detailed budget information for each of the five years of the proposed project.

III. Eligibility Information

1. Eligible Applicants: State VR agencies, excluding State VR agencies in States that have completely phased out subminimum wage employment.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles described in 2 CFR part 200 subpart E of the Uniform Guidance.

Note: All administrative expenses incurred under the DIF program must be reasonable and necessary for the administration of the DIF program and must conform to the requirements of the Federal Cost Principles described in 2 CFR 200.403 through 200.405. This means that the administrative costs incurred must be necessary and reasonable for the performance of the DIF award and must be allocable to that award. Although in certain circumstances, participants served and services provided are the same under both the VR and DIF programs, these programs are separate and distinct Federal programs with separate and distinct funding streams and requirements. As such, when allocating administrative costs between the DIF and VR programs, grantees must allocate the costs in accordance with the requirements of 2 CFR 200.405. This means that both VR and DIF program funds could be used to pay administrative costs associated with staff time providing services; however, with respect to those administrative activities limited to the DIF program, such as submitting progress reports, grantees must use only DIF program funds (or other State funds) to pay these costs. VR program funds and non-Federal funds used for match under the VR program can only pay for allowable costs under the VR program, including administrative costs, in accordance with 2 CFR 200.403 through 200.405.

3. Subgrantees: Under the Consolidated Appropriations Act, 2021, a grantee under this competition may award subgrants for a portion of the funds to other public and private, nonprofit entities to directly carry out project activities described in the grantee's application. Under 34 CFR 75.708(b) and (c), a grantee under this competition may award subgrants—to directly carry out project activities described in its application—to the following types of entities: Public and private, non-profit entities, LEAs, SEAs, and institutions of higher education. The grantee may award subgrants to entities it has identified in an approved application.

IV. Application and Submission Information

1. Application Submission Instructions: Applicants are required to follow the Common Instructions for Applicants to Department of Education Discretionary Grant Programs, published in the Federal Register on December 27, 2021 (86 FR 73264) and available at www.federalregister.gov/d/2021-27979, which contain requirements and information on how to submit an application. Please note that these Common Instructions supersede the version published on February 13, 2019, and, in part, describe the transition from the requirement to register in SAM.gov a DUNS number to the implementation of the UEI. More information on the phase-out of DUNS numbers is available at https://www2.ed.gov/about/offices/list/ofo/docs/unique-entity-identifier-transition-fact-sheet.pdf.

2. Submission of Proprietary Information: Given the types of projects that may be proposed in applications for the Disability Innovation Fund, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to all of the application narrative.

V. Application Review Information

1. Selection Criteria: The selection criteria for this competition are from 34 CFR 75.210 or are established for the FY 2022 grant competition and any subsequent year in which we make awards from the list of unfunded applications from this competition, in accordance with section 437(d)(1) of GEPA, and are as follows:

(a) Need for project and significance of the project (10 points)

(1) The Secretary considers the need for the proposed project and the significance of the proposed project.

(2) In determining the need for the proposed project and the significance of the proposed project, the Secretary considers the following factors:

(i) The national significance of the proposed project.

(ii) The magnitude of the need for the services to be provided or the activities to be carried out by the proposed project.

(iii) The extent to which the proposed project is likely to build local capacity to provide, improve, or expand services that address the needs of the target population.

(b) Quality of the project design (20 points)

(1) The Secretary considers the quality of the design of the proposed project.

(2) In determining the quality of the design of the proposed project, the Secretary considers the following factors:

(i) The extent to which the goals, objectives, and outcomes to be achieved by the proposed project are clearly specified and measurable.

(ii) The extent to which the design of the proposed project reflects up-to-date knowledge from research and effective practice.

(iii) The extent to which the results of the proposed project are to be disseminated in ways that will enable others to use the information or strategies.

(iv) The extent to which the proposed project represents an exceptional approach to the priority or priorities established for the competition.

(v) The extent to which performance feedback and continuous improvement are integral to the design of the proposed project.

(c) Quality of project services (20 points)

(1) The Secretary considers the quality of the services to be provided by the proposed project.

(2) In determining the quality of services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project involve the collaboration of appropriate partners for maximizing the effectiveness of project services.

(ii) The extent to which the services to be provided by the proposed project are appropriate to the needs of the intended recipients or beneficiaries of those services.

(iii) The likely impact of the services to be provided by the proposed project on the intended recipients of those services.

(iv) The likelihood that the services to be provided by the proposed project will lead to improvements in skills necessary to obtain CIE.

(d) Quality of the project evaluation (20 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation include the use of objective performance measures that are clearly related to the intended outcomes of the project and will produce quantitative and qualitative data to the extent possible.

(iii) The extent to which the evaluation will provide performance feedback and permit periodic assessment of progress toward achieving intended outcomes.

(iv) The extent to which the methods of evaluation will, if well implemented, produce promising evidence (as defined in 34 CFR 77.1(c)) about the project's effectiveness.

(e) Quality of project personnel (15 points)

(1) The Secretary considers the quality of the personnel who will carry out the proposed project.

(2) In determining the quality of project personnel, Secretary considers the extent to which the applicant encourages applications for employment from persons who are members of groups that have traditionally been underrepresented based on race, color, national origin, gender, age, or disability.

(3) In addition, the Secretary considers the following factors:

(i) The qualifications, including relevant training and experience, of the project director or principal investigator.

(ii) The qualifications, including relevant training and experience, of key project personnel.

(iii) The extent to which the time commitments of the project director and principal investigator and other key personnel are appropriate and adequate to meet the objectives of the proposed project.

(f) Adequacy of resources (15 points)

(1) The Secretary considers the adequacy of resources for the proposed project.

(2) In determining the adequacy of resources for the proposed project, the Secretary considers the following factors:

(i) The relevance and demonstrated commitment of each partner in the proposed project to the implementation and success of the project.

(ii) The extent to which the costs are reasonable in relation to the number of persons to be served and to the anticipated results and benefits.

(iii) The potential for the incorporation of project purposes, activities, or benefits into the ongoing program of the agency or organization at the end of the Federal funding.

(iv) The adequacy of support, including facilities, equipment, supplies, and other resources, from the applicant organization or the lead applicant organization.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with:

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115—232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit semiannual and annual performance reports that provide the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection and reporting. In this case, the Secretary establishes a data collection period.

5. Performance Measures: For this competition, the Department has established the following performance measures for the purpose of Department reporting under 34 CFR 75.110.

(a) The percent of project participants who transition from subminimum wage employment to CIE; and

(b) The percent of project participants who are contemplating subminimum wage employment for the first time but are redirected to CIE.

These performance measures are consistent with, and included in, the performance measures in paragraphs (c)(5) and (6) of the Program and Project Application Requirements.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Katherine Neas,
Deputy Assistant Secretary. Delegated the authority to perform the functions and duties of the Assistant Secretary for the Office of Special Education and Rehabilitative Services.

[FR Doc. 2022-05974 Filed 3-18-22; 8:45 am]

BILLING CODE 4000-01-P